ENVIRONMENTAL PROTECTION AGENCY

[ER-FRL-9011-7]

Environmental Impact Statements; Notice of Availability

Responsible Agency: Office of Federal Activities, General Information (202) 564-7146 or http://www.epa.gov/compliance/nepa/.

Weekly receipt of Environmental Impact Statements

Filed 10/21/2013 Through 10/25/2013

Pursuant to 40 CFR 1506.9.

Notice

Section 309(a) of the Clean Air Act requires that EPA make public its comments on EISs issued by other Federal agencies. EPA's comment letters on EISs are available at: http://www.epa.gov/compliance/nepa/eisdata.html.

EIS No. 20130306, Second Final EIS, USCG, 00, Tiering FEIS—U.S. Coast Guard Rulemaking for Dry Cargo Residue Discharges in the Great Lakes, Review Period Ends: 12/02/2013, Contact: Timothy P. O'Brien 202-372-1539.

EIS No. 20130307, Final EIS, BLM, WY, Gas Hills In-Situ Recovery Uranium Project, Review Period Ends: 12/02/2013, Contact: Tom Sunderland 307-332-8400.

EIS No. 20130308, Draft EIS, USACE, NC, Morehead City Harbor Integrated Dredged Material Management Plan, Port of Morehead City, Comment Period Ends: 12/16/2013, Contact: Hugh Heine 910-251-4070.

EIS No. 20130309, Draft EIS, DOE, NY, Champlain Hudson Power Express Transmission Line Project, Comment Period Ends: 12/16/2013, Contact: Brian Mills 202-586-8267.

EIS No. 20130310, Draft EIS, BLM, UT, Utah Greater Sage-Grouse Draft Land Use Plan Amendment, Comment Period Ends: 01/29/2014, Contact: Quincy Bahr 801-539-4122.

EIS No. 20130311, Draft EIS, BLM, NV, Nevada and Northeastern California Greater Sage-Grouse Planning, Comment Period Ends: 01/29/2014, Contact: Joe Tague 775-861-6556.

The U.S. Department of the Interior's Bureau of Land Management and the U.S. Department of Agriculture's Forest Service are Joint Lead Agencies for the above project.

EIS No. 20130312, Draft EIS, BLM, ID, Idaho and Southwestern Montana Greater Sage-Grouse Draft Land Use Plan, Comment Period Ends: 01/29/2014, Contact: Brent Ralston 208-373-3812.

EIS No. 20130313, Draft EIS, USFS, ID, Lost Creek-Boulder Creek Landscape Restoration Project, Comment Period Ends: 12/16/2013, Contact: Holly Hutchinson 208-347-0325.

EIS No. 20130314, Final EIS, DOE, IL, FutureGen 2.0 Project, Review Period Ends: 12/02/2013, Contact: Cliff Whyte 304-285-2098.

EIS No. 20130315, Draft EIS, FERC, AZ, Sierrita Pipeline Project, Comment Period Ends: 12/16/2013, Contact: David Hanobic 202-502-8312.

EIS No. 20130316, Final EIS, NPS, CA, Restoration of the Mariposa Grove of Giant Sequoias, Review Period Ends: 12/02/2013, Contact: Kimball Koch 209-379-1364.

EIS No. 20130317, Draft Supplement, USACE, NC, NC-1409 (Military Cutoff Road) Extension and Proposed US 17 Hampstead Bypass, Comment Period Ends: 12/16/2013, Contact: Brad Shaver 910-251-4611.

Amended Notices

EIS No. 20130221, Draft Supplement, BLM, CA, Palen Solar Electrical Generating System, Comment Period Ends: 11/14/2013, Contact: Frank McMenimen 760-833-7150.

Revision to FR Notice Published 07/26/2013; Extending Comment Period from 10/24/2013 to 11/14/2013.

EIS No. 20130260, Draft EIS, BIA, NV, Moapa Solar Energy Center, Comment Period Ends: 11/12/2013, Contact: Amy Heuslein 602-379-6750.

Revision to FR Notice Published 09/13/2013; Extending Comment Period from 10/21/2013 to 11/12/2013.

EIS No. 20130261, Draft Supplement, NPS, CA, Golden Gate National Recreation Area Draft Dog Management Plan, Comment Period Ends: 01/13/2014, Contact: Michael B. Edwards 303-969-2694.

Revision to FR Notice Published 09/06/2013; Extending Comment Period from 12/04/2013 to 01/11/2014.

EIS No. 20130266, Draft EIS, USN, GU, The Mariana Islands Training and Testing, Comment Period Ends: 12/06/2013, Contact: John Van Name 808-471-1714.

Revision to FR Notice Published 10/25/2013; Extending Comment Period from 11/12/2013 to 12/12/2013.

EIS No. 20130269, Draft EIS, NRC, 00, Generic—Waste Confidence, Comment Period Ends: 12/20/2013, Contact: Sarah Lopas 301-287-0675.

Revision to FR Notice Published 09/13/2013; Extending Comment Period from 11/27/2013 to 12/20/2013.

EIS No. 20130277, Final Supplement, BLM, NV, Silver State Solar South Project Proposed Resource Management Plan Amendment, Review Period Ends: 11/06/2013, Contact: Nancy Christ 702-515-5136.

Revision to FR Notice Published 09/20/2013; Extending Comment Period from 10/21/2013 to 11/06/2013.

EIS No. 20130280, Draft EIS, BLM, NV, 3 Bars Ecosystem and Landscape Restoration Project, Comment Period Ends: 11/29/2013, Contact: Chad Lewis 775-635-4000.

Revision to FR Notice Published 09/27/2013; Extending Comment Period from 11/12/2013 to 11/29/2013.

EIS No. 20130284, Draft Supplement, GSA, CA, San Ysidro Land Port of Entry Improvements Project, Comment Period Ends: 11/29/2013, Contact: Osmahn Kadri 415-522-3617.

Revision to the FR Notice Published 09/27/2013; Extending Comment Period from 11/12/2013 to 11/29/2013.

EIS No. 20130290, Draft EIS, NPS, CA, Restoration of Native Species in High Elevation Aquatic Ecosystems Plan, Sequoia and Kings Canyon National Parks, Comment Period Ends: 12/17/2013, Contact: Woodrow Smeck 559-565-3101.

Revision to FR Notice Published 10/04/2013; Extending Comment Period from 11/25/2013 to 12/17/2013.

Dated: October 29, 2013.
Aimee Hessert,
Deputy Director, NEPA Compliance Division, Office of Federal Activities.

[FR Doc. 2013-26132 Filed 10-31-13; 8:45 am]

BILLING CODE 6560-50-P